DEPARTMENT OF THE INTERIOR

Bureau of Land Management

[BLM_NM_FRN_MO4500177564]

Public Land Order No. 7942; Withdrawal of National Forest System Lands for the Guadalupe Cave Resources Protection Area; New Mexico

AGENCY: Bureau of Land Management, Interior.

ACTION: Public Land Order.

SUMMARY: This Order withdraws 28,513.30 acres of National Forest System lands in the Lincoln National Forest in Eddy County, New Mexico, from location and entry under the United States mining laws and from leasing under the mineral leasing laws for a period of 20 years, subject to valid existing rights. The purpose of this withdrawal is to protect the Guadalupe Cave Resource Protection Area, which contains numerous known magnificent caves, including 88 caves listed as significant in accordance with the Federal Cave Resources Protection Act of 1988.

DATES: This Order takes effect on May 23, 2024.

FOR FURTHER INFORMATION CONTACT: Sarah Naranjo, Realty Specialist, BLM New Mexico State Office, by email at snaranjo@blm.gov or by telephone at (505) 954-2200, during regular business hours 8 a.m. to 4:30 p.m. Mountain Time (MT, Monday through Friday, except holidays. Individuals in the United States who are deaf, deafblind, hard of hearing, or have a speech disability may dial 711 (TTY, TDD, or TeleBraille) to access telecommunications relay services. Individuals outside the United States should use the relay services offered within their country to make international calls to the point of contact in the United States.

Order

By virtue of the authority vested in the Secretary of the Interior by Section 204 of the Federal Land Policy and Management Act of 1976, 43 U.S.C. 1714, it is ordered as follows:

1. Subject to valid existing rights, the following described National Forest System lands are hereby withdrawn from location and entry under the United States mining laws and from leasing under the mineral leasing laws, for a 20-year term in order to protect the Guadalupe Cave Resource Protection Area:

New Mexico Principal Meridian

T. 25 S., R. 21 E.,

Sec. 36, lot 4, S½SW¼, and SW¼SE¼,

T. 26 S., R. 21 E.

Sec. 1;

Sec. 2, E½;

Sec. 10, SE¼SE¼;

Sec. 11, E½ and SW¼;

Secs.12, 13, and 14;

Sec. 15, E½, S½NW¼, and SW¼;

Sec. 16, S½SE¼;

Sec. 20, SE¼;

Secs. 21 thru 28;

Sec. 29, E½;

Sec. 32, lots 1 and 2, and N½NE¼;

Secs. 33 thru 36

T. 25 S., R.22 E.,

Sec. 14, S½, unsurveyed;

Sec. 15, S½ and NW¼, unsurveyed;

Secs. 22 and 23, unsurveyed;

Secs. 26 thru 29, unsurveyed;

PBs 43, 44, 49 thru 52, and 55 thru 63.

T. 26 S., R. 22 E.,

Secs. 3 thru 10, and 15 thru 18.

The areas described aggregate 28,513.30 acres.

2. This withdrawal will expire 20 years from the effective date of this order unless, as a result of a review conducted before the expiration date pursuant to Section 204(f) of the Federal Land Policy and Management Act of 1976, 43 U.S.C. 1714(f), the Secretary determines that the withdrawal shall be extended.

(Authority: 43 U.S.C. 1714)

Robert T. Anderson,
Solicitor.

[FR Doc. 2024-11330 Filed 5-22-24; 8:45 am]

BILLING CODE 3411-15-P